SECURITIES AND EXCHANGE COMMISSION

[Release No. 34-104862; File No. SR-NYSEARCA-2026-13]

Self-Regulatory Organizations; NYSE Arca, Inc.; Notice of Filing and Immediate Effectiveness of Proposed Rule Change of Amendments To Facilitate the Transfer and Trading of Options That Overlie the MSCI EAFE Index and the MSCI Emerging Markets Index

February 18, 2026.

Pursuant to Section 19(b)(1) of the Securities Exchange Act of 1934 (the “Act”),¹ and Rule 19b-4 thereunder,² notice is hereby given that on February 6, 2026, NYSE Arca, Inc. (the “Exchange” or “NYSE Arca”) filed with the Securities and Exchange Commission (the “Commission”) the proposed rule change as described in Items I and II below, which Items have been prepared by the Exchange. The Exchange filed the proposal as a “non-controversial” proposed rule change pursuant to Section 19(b)(3)(A)(iii) of the Act ³ and Rule 19b-4(f)(6) thereunder.⁴ The Commission is publishing this notice to solicit comments on the proposed rule change from interested persons.

¹ 15 U.S.C. 78s(b)(1).

² 17 CFR 240.19b-4.

³ 15 U.S.C. 78s(b)(3)(A)(iii).

⁴ 17 CFR 240.19b-4(f)(6).

I. Self-Regulatory Organization's Statement of the Terms of Substance of the Proposed Rule Change

The Exchange proposes amendments to facilitate the transfer and trading of options that overlie the MSCI EAFE Index (“EAFE options”) and the MSCI Emerging Markets Index (“EM options”) based on the rules of Chicago Board Options Exchange, Inc. (“CBOE”) governing the listing and trading of such options. EAFE options and EM options would be P.M., cash-settled contracts with European-style exercise. The proposed rule change is available on the Exchange's website at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes amendments to Rule 5.12-O (Designations of the Index Broad-Based Index Options), Rule 5.15-O (Position Limits for Broad-Based Index Options), Rule 5.19-O (Terms of Index Option Contracts), Rule 5.20-O (Trading Sessions), Rule 5.22-O (Disclaimers), Rule 5.35-O (Position Limits for FLEX Options), and Rule 6.4-O (Series of Options Open for Trading). The proposed changes are based on CBOE Rules 24.1, 24.2, 24.6, 24.9, 24A.7, and 24B.7 ⁵ and are intended to facilitate the transfer to the Exchange of EAFE options and EM options currently listed and traded on CBOE.⁶ EAFE options and EM options each are P.M., cash-settled contracts (in U.S. dollars) with European-style exercise.

⁵ See CBOE Rules 24.1, 24.2, 24.6, 24.9, 24A.7, and 24B.7; Securities Exchange Act Release No. 74681 (April 8, 2015), 80 FR 20032 (April 14, 2015) (SR-CBOE-2015-023) (Order Granting Accelerated Approval of Proposed Rule Change, as Modified by Amendment No. 1, to List and Trade Options on the MSCI EAFE Index and on the MSCI Emerging Markets Index).

⁶ A press release on January 7, 2026, announced that options on MSCI indexes would be listed on the Exchange and its affiliate NYSE American LLC, including the MSCI Emerging Markets Index, MSCI EAFE Index, MSCI ACWI Index, MSCI World Index, and MSCI USA Index, in early 2026 subject to regulatory approval. See https://ir.theice.com/press/news-details/2026/The-New-York-Stock-Exchange-Enters-Agreement-with-MSCI-to-Become-the-U-S--Options-Listing-Venue-for-Benchmark-Indexes-in-Early-2026/default.aspx.

MSCI EAFE Index Design, Methodology and Dissemination

The MSCI EAFE Index (Europe, Australasia, Far East) is a free float-adjusted market capitalization index launched in 1969 and calculated by MSCI Inc. (“MSCI”) designed to measure the equity market performance of developed markets, excluding the U.S. and Canada.⁷ The MSCI EAFE Index consists of large and midcap components, currently has 694 constituents and “covers approximately 85% of the free float-adjusted market capitalization in each country.” ⁸

⁷ The MSCI EAFE Index consists currently of the following 21 developed market country indexes: Australia, Austria, Belgium, Denmark, Finland, France, Germany, Hong Kong, Ireland, Israel, Italy, Japan, the Netherlands, New Zealand, Norway, Portugal, Singapore, Spain, Sweden, Switzerland, and the United Kingdom.

⁸ See MSCI EAFE Index fact sheet (dated November 28, 2025) available at https://www.msci.com/documents/10199/56aada01-e1e4-492a-858c-430b34e2676d.

The MSCI EAFE Index is calculated in U.S. dollars on a real-time basis from the open of the first market on which the components are traded to the closing of the last market on which the components are traded. The MSCI EAFE Index is based on the MSCI Global Investable Market Indexes (“GIMI”) Methodology, which is similar to the methodology used to calculate the value of other benchmark market-capitalization weighted indexes.⁹ The level of the MSCI EAFE Index reflects the free float-adjusted market value of the component stocks relative to a particular base date and is computed by dividing the total market value of the companies in the MSCI EAFE Index by the index divisor.

⁹ Summary and comprehensive information about the GIMI methodology may be reviewed at https://www.msci.com/indexes/index-resources/index-methodology.

MSCI monitors and maintains the MSCI EAFE Index. Adjustments to the MSCI EAFE Index are made on a daily basis with respect to corporate events and dividends. MSCI reviews the MSCI EAFE Index quarterly (February, May, August and November) with the objective of reflecting the evolution of the underlying equity markets and segments on a timely basis, while seeking to achieve index continuity and stability.¹⁰

¹⁰ See MSCI GIMI Methodology, available via https://www.msci.com/indexes/index-resources/index-methodology.

Real-time data is distributed approximately every 15 seconds while the index is being calculated using MSCI's real-time calculation engine to Bloomberg L.P. (“Bloomberg”), FactSet Research Systems, Inc. (“FactSet”) and Thomson Reuters (“Reuters”). End of day data is distributed daily to clients through MSCI as well as through major quotation vendors, including Bloomberg, FactSet, and Reuters.

The Exchange notes that the iShares MSCI EAFE exchange traded fund (“ETF”), which tracks the MSCI EAFE Index, is an actively traded product listed on NYSE Arca. The Exchange also lists options overlying that ETF (“EFA options”) and those options are actively traded as well. MSCI EAFE Index Future (“EAFE Futures”) contracts are listed for trading on the Intercontinental Exchange, Inc. (“ICE”) ¹¹ and other derivatives contracts on the MSCI EAFE Index are listed for trading in Europe.

¹¹See MSCI EAFE Index Future contract specifications located at https://www.theice.com/products/31196848/MSCI-EAFE-Index-Future.

MSCI Emerging Markets Index Design, Methodology and Dissemination

The MSCI Emerging Markets Index (“MSCI EM Index”), launched in 1988, is a free float-adjusted market capitalization index that is designed to measure equity market performance of emerging markets.¹² The MSCI EM Index consists of large and midcap components, currently has 1,196 constituents and “covers approximately 85% of the free float-adjusted market capitalization in each country.” ¹³

¹² The MSCI EM Index consists currently of the following 24 emerging market country indexes: Brazil, Chile, China, Colombia, Czech Republic, Egypt, Greece, Hungary, India, Indonesia, Korea, Malaysia, Mexico, Pakistan, Peru, Philippines, Poland, Qatar, Russia, South Africa, Taiwan, Thailand, Turkey and United Arab Emirates.

¹³ See MSCI EM Index fact sheet (dated November 28, 2025), available at https://www.msci.com/documents/10199/10c3f32f-4565-4a92-aa1c-edf6f3a4e03f.

The MSCI EM Index is calculated in U.S. dollars on a real-time basis from the open of the first market on which the components are traded to the closing of the last market on which the components are traded. The MSCI EM Index is also based on the MSCI GIMI Methodology.¹⁴ The level of the MSCI EM Index reflects the free float-adjusted market value of the component stocks relative to a particular base date and is computed by dividing the total market value of the companies in the MSCI EM Index by the index divisor.

¹⁴ See MSCI GIMI Methodology, available via https://www.msci.com/indexes/index-resources/index-methodology.

MSCI also monitors and maintains the MSCI EM Index. Adjustments to the MSCI EM Index are made daily with respect to corporate events and dividends. MSCI reviews the MSCI EM Index quarterly (February, May, August and November) with the objective of reflecting the evolution of the underlying equity markets and segments on a timely basis, while seeking to achieve index continuity and stability.¹⁵

¹⁵ See MSCI EM Index fact sheet (dated November 28, 2025), available at https://www.msci.com/documents/10199/10c3f32f-4565-4a92-aa1c-edf6f3a4e03f.

Real-time data is distributed approximately every 15 seconds using MSCI's real-time calculation engine to Bloomberg, FactSet and Reuters. End of day data is distributed daily to clients through MSCI as well as through major quotation vendors, including Bloomberg, FactSet, and Reuters.

The Exchange notes that the iShares MSCI Emerging Markets ETF is an actively traded product listed on NYSE Arca. NYSE Arca also lists options overlying that ETF (“EEM options”) and those options are actively traded as well. MSCI Emerging Markets Index Future (“EM Futures”) contracts are listed for trading on ICE ¹⁶ and other derivatives contracts on the MSCI EM Index are listed for trading in Europe.

¹⁶See MSCI EM Index Future contract specifications located at https://www.theice.com/products/31196851/MSCI-Emerging-Markets-Index-Future.

Contract Specifications

The contract specifications for options on the MSCI EAFE Index are set forth in Exhibit 3-1. The contract specifications for options on the MSCI EM Index are set forth in Exhibit 3-2.

Generally, the proposed trading rules for EAFE options and EM options would be the same.

The MSCI EAFE Index and the MSCI EM Index are each a broad-based index, as defined in Rule 5.10-O(b)(23), for the purpose of determining which of the Exchange's rules apply to options on such indices and, as noted, the options for each are P.M.-settled with European-style exercise provisions settled in cash.¹⁷

¹⁷ The Exchange proposes to amend Rule 5.19-O(4) to provide for European-style exercise of EAFE options and EM options, with P.M. settlement.

Trading of EAFE options and EM options will be subject to the trading halt procedures applicable to index options traded on the Exchange ¹⁸ and will continue to be quoted and traded in U.S. dollars.¹⁹ Accordingly, all Exchange and The Options Clearing Corporation (“OCC”) members will continue to be able to accommodate trading, clearance and settlement of EAFE options and EM options without alteration.

¹⁸ See Rule 5.20-O(c).

¹⁹ See Rule 5.19-O(a)(1).

The contract multiplier for EAFE options and EM options would be $100. EAFE options and EM options would be quoted in index points and one point would equal $100. The minimum tick size for series trading below $3 would be 0.05 ($5.00) and at or above $3, will be 0.10 ($10.00).

Initially, the Exchange would list in-, at- and out-of-the-money strike prices. Additional series may be opened for trading as the underlying index level moves up or down.²⁰ The minimum strike price interval for EAFE option series and EM option series would be 2.5 points if the strike price is less than 200. When the strike price is 200 or above, strike price intervals would be no less than 5 points.²¹ New series of index option contracts may be added up to, but not on or after, the fourth business day prior to expiration for an option contract expiring on a business day, or, in the case of an option contract expiring on a day that is not a business day, the fifth business day prior to expiration.²² Consistent with existing Rule 5.19-O, the Exchange will list Monthly Option series that expire at the close of business on the last trading day of the month and regular monthly options that expire on the third Friday of the month. In addition, as provided for in Rule 6.4-O, the Exchange will list Short Term options that expire on the Friday of each week, provided that Short Term options will not be listed if an existing third Friday expiration or Monthly Option expiration would coincide with the expiration of a Short Term option.

²⁰ See Rule 5.19-O(c)(4). The rule sets forth the criteria for listing additional series of the same class as the current value of the underlying index moves. Generally, additional series must be “reasonably related” to the current index value, which means that strike prices must be within 30% of the current index value. Series exceeding the 30% range may be listed based on demonstrated customer interest.

²¹ See proposed Rule 5.19-O(c)(5).

²² See Rule 5.19-O(c)(2).

In order to ensure continuity with existing expirations listed by CBOE, the Exchange proposes to amend existing Rule 5.19-O to allow for the listing of up to twelve near-term expiration months with a third Friday expiration date.²³ Additionally, the Exchange proposes an amendment to Rule 5.19-O to permit the listing of up to ten expirations in Long-Term Index Option Series (“LEAPS”) on the EAFE index and the EM index with expirations between 12 and 180 months.²⁴ Both EAFE and EM index options would be eligible for all other expirations permitted for other broad-based indexes, e.g., Short Term Option Series and Quarterly Option Series.²⁵

²³ See proposed amendment to Rule 5.19-O(a)(3)(A). The Exchange is proposing to allow the listing of up to twelve expiration months at any one time for EAFE options and EM options.

²⁴ See proposed amendment to Rule 5.19-O(b)(1).

²⁵ See, e.g., Rules 5.19-O(b) (Index LEAPS Options Series); 6.4-O, Commentary .07 (Short Term Option Series); and 6.1-O, Commentary .08 (Quarterly Option Series). The Exchange proposes to amend Commentary .07 to Rule 6.4-O to provide that, notwithstanding the provisions of Commentary .07(a), Short Term Option Series on the MSCI EAFE Index and the MSCI EM Index will be P.M.-settled and that the Exchange may have up to 12 Short Term Weekly Expirations in such series, consistent with how EAFE options and EM options currently trade.

The Exchange proposes that the minimum quoting increment for EAFE options and EM options will be $0.05 for series trading below $3, and $0.10 for series trading at or above $3, consistent with Rule 6.72-O.

Trading hours for EAFE options and EM options would be from 9:30 a.m. to 4:00 p.m. (New York time).²⁶ Additionally, the last trading day for expiring EAFE options series and EM options series would be the business day prior to the expiration date of the specific series.²⁷

²⁶ See proposed Rule 5.20-O, Commentary .01.

²⁷ See proposed Rule 5.20-O, Commentary .02.

Initial and Continued Listing Criteria

The MSCI EAFE Index and the MSCI EM Index each meet the definition of a broad-based index as set forth in Rule 5.10-O(b)(23).²⁸ In addition, the Exchange proposes to incorporate specific initial and continued listing criteria for options on the MSCI EAFE Index and on the MSCI EM Index based on CBOE Rules 24.1, 24.2, 24.6, 24.9, 24A.7, and 24B.7, as follows. New Commentary .01(a) to Rule 5.12-O (Designation of the Index Broad-Based Index Options) would provide that the Exchange may list for trading EAFE options and EM options if each of the following conditions is satisfied:

²⁸ Rule 5.10-O(b)(23) defines a broad-based index to mean an index designed to be representative of a stock market as a whole or of a range of companies in unrelated industries.

(1) The index is broad-based, as defined in 5.10-O(b)(23);

(2) Options on the index are designated as P.M.-settled index options;

(3) The index is capitalization-weighted, price-weighted, modified capitalization-weighted or equal dollar-weighted;

(4) The index consists of 500 or more component securities;

(5) All component securities of the index have a market capitalization of greater than $100 million;

(6) No single component security accounts for more than fifteen percent (15%) of the weight of the index, and the five highest weighted component securities in the index do not, in the aggregate, account for more than fifty percent (50%) of the weight of the index;

(7) Non-U.S. component securities (stocks or ADRs) that trade solely on markets with which the Exchange does not have comprehensive surveillance agreements do not, in the aggregate, represent more than:

(i) twenty-five percent (25%) of the weight of the EAFE Index (for EAFE options), and

(ii) twenty-seven and a half percent (27.5%) of the weight of the EM Index (for EM options);

(8) During the time options on the index are traded on the Exchange, the current index value is widely disseminated at least once every fifteen (15) seconds by one or more major market data vendors. However, the Exchange may continue to trade EAFE options after trading in all component securities has closed for the day and the index level is no longer widely disseminated at least once every fifteen (15) seconds by one or more major market data vendors, provided that EAFE futures contracts are trading and prices for those contracts may be used as a proxy for the current index value;

(9) The Exchange reasonably believes it has adequate system capacity to support the trading of options on the index, based on a calculation of the Exchange's current Independent System Capacity Advisor (ISCA) allocation and the number of new messages per second expected to be generated by options on such index; and

(10) The Exchange has written surveillance procedures in place with respect to surveillance of trading of options on the index.

Additionally, the Exchange proposes new Commentary .01(b) to Rule 5.12-O to set forth the following continued listing standards for options on the MSCI EAFE Index and on the MSCI EM Index:

(1) The conditions set forth in Commentary .01(a) (1), (2), (3), (4), (8), (9) and (10) must continue to be satisfied. The conditions set forth in Commentary .01(a)(5) and (6) must be satisfied only as of the first day of January and July in each year. The condition set forth in Commentary .01(a)(7) must be satisfied as of the first day of the month following the Reporting Authority's ²⁹ review of the weighting of the constituents in the applicable index but in no case less than a quarterly basis.

²⁹ As defined in the proposed amendment to Rule 5.22-O, Commentary .01. See note 32, infra.

(2) The total number of component securities in the index may not increase or decrease by more than thirty-five percent (35%) from the number of component securities in the index at the time of its initial listing, except for the MSCI EM Index, in which the total number of component securities in the MSCI EM Index may not increase or decrease by more than ten percent (10%) over the last six-month period.

In the event a class of index options listed on the Exchange fails to satisfy the continued listing standards set forth herein, the Exchange shall not open for trading any additional series of options of that class unless the continued listing of that class of index options has been approved by the Commission under Section 19(b)(2) of the Act.

The Exchange believes that P.M. settlement would continue to be appropriate for EAFE options and EM options due to the nature of these indexes that encompass multiple markets around the world. As to the MSCI EAFE Index, the components open with the start of trading in certain parts of Asia at approximately 6:00 p.m. (New York time) (prior day) and close with the end of trading in Europe at approximately 12:30 p.m. (New York time) (next day) as closing prices from Ireland are accounted for in the closing calculation. The closing MSCI EAFE Index level is distributed by MSCI between approximately 2:00 p.m. and 3:00 p.m. (New York) each trading day.

As a result, there will not be a current MSCI EAFE Index level calculated and disseminated during a portion of the time during which EAFE options would be traded (from approximately 12:30 p.m. (New York time) to 4:00 p.m. (New York time)).³⁰ However, the EAFE Futures contract that trades on ICE will be trading during this time period ³¹ and the EAFE Futures prices would be a proxy for the current MSCI EAFE Index level during this time period. Therefore, the Exchange believes that EAFE options should be permitted to trade after trading in all component securities has closed for the day and the index level is no longer widely disseminated at least once every fifteen (15) seconds by one or more major market data vendors, provided that EAFE Futures contracts are trading and prices for those contracts may be used as a proxy for the current index value.

³⁰ The trading hours for multiply-listed EFA options are from 9:30 a.m. (New York time) to 4:15 p.m. (New York time).

³¹ The trading hours for EAFE Futures are from 8:00 p.m. (New York time) to 6:00 p.m. (New York time) the following day, Sunday through Friday. See MSCI EAFE Index Future contract specifications located at https://www.theice.com/products/31196848/MSCI-EAFE-Index-Future.

As to the MSCI EM Index, the components open with the start of trading in certain parts of Asia at approximately 7:00 p.m. (New York time) (prior day) and close with the end of trading in Mexico and Peru at approximately 4:30 p.m. (New York time) (next day) as closing prices from Brazil, Chile, Peru and Mexico, including late prices, are accounted for in the closing calculation. The closing MSCI EM Index level is distributed at approximately 6:00 p.m. (New York time) each trading day.³²

³² Late prices indicate that while the last real-time stock tick comes in at approximately 4:00 p.m. (New York time), the MSCI EM Index will stay open for a few minutes longer to allow any late price information to be obtained. At approximately 4:30 p.m. (New York time), the final foreign currency rates are applied and the last real-time MSCI EM Index value is disseminated.

Because the MSCI EAFE Index and the MSCI EM Index each have a large number of component securities representative of many countries, the Exchange believes that the same initial listing requirements as those utilized by CBOE are appropriate to trade options on each index. In addition, similar to other broad-based indexes, the Exchange proposes various maintenance requirements, which require continual compliance and periodic compliance.

Exercise and Settlement

The proposed EAFE options and EM options would expire, as currently, on the third Friday of the expiring month in the case of regular monthly options and LEAPS, each Friday in the case of Short Term options, and the last trading day of the month in the case of Monthly Options and/or Quarterly Options. As noted above, the last trading day for expiring EAFE options series and EM options series would continue to be the business day prior to the expiration date of the specific series. As is currently the case, when the last trading day/expiration date is moved because of an Exchange holiday or closure, the last trading day/expiration date for expiring options would be the immediately preceding business day.

Exercise would result in delivery of cash on the business day following expiration. EAFE options and EM options would be P.M.-settled. The exercise settlement value would be the official closing values of the MSCI EAFE Index and the MSCI EM Index as reported by MSCI on the expiration day of the expiring contract.³³

³³ See proposed amendment to Rule 5.22-O, Commentary .01, to identify MSCI, Inc. as the Reporting Authority for the MSCI EAFE Index (EAFE) and the MSCI Emerging Markets Index (EM). As the designated Reporting Authority for each of these indexes, the disclaimers set forth in Rule 5.22-O (Disclaimers) would apply to MSCI, Inc.

As noted, the exercise settlement amount would be equal to the difference between the exercise-settlement value and the exercise price of the option, multiplied by the contract multiplier ($100). If the exercise settlement value is not available or the normal settlement procedure cannot be utilized due to a trading disruption or other unusual circumstance, the settlement value would be determined in accordance with the rules and bylaws of the OCC.

Position and Exercise Limits

The Exchange proposes to amend Rule 5.15-O(a) to establish position limits for EAFE options and EM options equal to 50,000 contracts on the same side of the market similar to CBOE. The Exchange further proposes to adopt Rule 5.35-O(a)(iv) with respect to position limits for FLEX Options. The proposed rule would provide that the position limits for FLEX Index options on the MSCI EAFE Index and on the MSCI EM Index would be equal to the position limits for non-FLEX options on such indices. Additionally, pursuant to Rule 5.14-O, the exercise limits for EAFE options and EM options would be equivalent to the position limits for EAFE options and EM options. All position limit hedge exemptions applicable to Broad-Based index options would also apply.

Applicable Exchange Rules

The trading of EAFE options and EM options will be subject to the same rules that presently govern the trading of Exchange index options, including sales practice rules and trading rules.

Rule 9.18-O(b), “Opening of Accounts,” is designed to protect public customer trading and shall apply to trading in EAFE options and EM options. Specifically, Rule 9.18-O(b) prohibits an OTP Firm or OTP Holder from accepting a customer order to purchase or write an option, including EAFE options and EM options, unless such customer's account has been approved in writing by a Registered Options Principal. Additionally, Rule 9.18-O(c), “Suitability,” is designed to ensure that options, including EAFE options and EM options, are only sold to customers capable of evaluating and bearing the risks associated with trading in these securities. Further, Rule 9.18-O(e), “Discretionary Accounts,” permits an OTP Firm or OTP Holder to exercise discretionary power with respect to trading options, including EAFE options and EM options, in a customer's account only if the customer has given prior written authorization and the account has been accepted in writing by a Registered Options Principal. Rule 9.18-O(e) also requires a record to be made of every option transaction for an account in respect to which an OTP Firm or OTP Holder is vested with discretionary authority, such record to include the name of the customer, the designation, number of contracts and premium of the option contracts, the date and time when such transaction took place and clearly reflecting the fact that discretionary authority was exercised. Finally, Rule 9.18-O(d), “Supervision of Accounts,” Rule 9.18-O(f), “Confirmations,” and Rule 9.18-O(g), “Delivery of Current Options Disclosure Document and Prospectus,” will also apply to trading EAFE options and EM options.

Surveillance and Capacity

The Exchange represents that the same surveillance procedures applicable to all other options currently listed and traded on the Exchange will apply to EAFE options and EM options, and that it has the necessary systems capacity to support the option series. The Exchange's existing surveillance and reporting safeguards are designed to deter and detect possible manipulative behavior and other improper trading. In addition, the Exchange has a Regulatory Services Agreement (“RSA”) with the Financial Industry Regulatory Authority (“FINRA”). Pursuant to a multi-party 17d-2 joint plan, all options exchanges allocate regulatory responsibilities to FINRA to conduct certain options-related market surveillances.³⁴ The Exchange is also a member of the Intermarket Surveillance Group (“ISG”) under the ISG Agreement. ISG members work together to coordinate surveillance and investigative information sharing in the stock, options, and futures markets. Further, the Exchange will implement any new surveillance procedures it deems necessary to effectively monitor the trading of EAFE options and EM options.

³⁴ Section 19(g)(1) of the Act, among other things, requires every SRO registered as a national securities exchange or national securities association to comply with the Act, the rules and regulations thereunder, and the SRO's own rules, and, absent reasonable justification or excuse, enforce compliance by its members and persons associated with its members. See 15 U.S.C. 78q(d)(1) and 17 CFR 240.17d-2. Section 17(d)(1) of the Act allows the Commission to relieve an SRO of certain responsibilities with respect to members of the SRO who are also members of another SRO. Specifically, Section 17(d)(1) allows the Commission to relieve an SRO of its responsibilities to: (i) receive regulatory reports from such members; (ii) examine such members for compliance with the Act and the rules and regulations thereunder, and the rules of the SRO; or (iii) carry out other specified regulatory responsibilities with respect to such members.

Given the enormous liquidity in the underlying components of the MSCI EAFE Index and the MSCI EM Index and large number of market participants trading those components, the Exchange believes that any attempt to manipulate the price of the underlying security or options overlying such security in order to affect the price of the indices would be cost prohibitive and unlikely to succeed. Moreover, the Exchange believes that its existing surveillances and procedures adequately address potential concerns regarding possible manipulation of the settlement value at or near the close of the market.

Finally, given that the EAFE options and EM options have traded on CBOE for many years without system capacity issues and that the options would trade the same way on the Exchange, the Exchange does not believe that the listing and trading of these options would present any system capacity or message traffic issues for the Exchange or The Options Price Reporting Authority (OPRA). The Exchange will monitor the trading volume associated with the additional options series listed as a result of this proposed rule change and the effect (if any) of these additional series on the capacity of the Exchange's automated systems.

2. Statutory Basis

The Exchange believes that its proposal is consistent with Section 6(b) of the Act,³⁵ in general, and furthers the objectives of Section 6(b)(5) of the Act,³⁶ in particular, in that it is designed to prevent fraudulent and manipulative acts and practices, to promote just and equitable principles of trade, to foster cooperation and coordination with persons engaged in regulating, clearing, settling, processing information with respect to, and facilitating transactions in securities, to remove impediments to and perfect the mechanism of a free and open market and a national market system, and, in general, to protect investors and the public interest; and is not designed to permit unfair discrimination between customers, issuers, brokers or dealers. Specifically, the Exchange believes that the listing and trading of EAFE options and EM options on the Exchange would increase order flow to the Exchange, increase the variety of options products available for trading, and provide a valuable tool for investors to manage risk.

³⁵ 15 U.S.C. 78f(b).

³⁶ 15 U.S.C. 78f(b)(5).

The proposed change will facilitate the transfer and trading of EAFE options and EM options based on the approved rules of CBOE designed to prevent fraudulent and manipulative acts and practices and promote just and equitable principles of trade.

The Exchange believes that the proposal to adopt rules based on CBOE to list and trade EAFE options and EM options would remove impediments to and perfect the mechanism of a free and open market as EAFE options and EM options would continue to provide greater opportunities for market participants to manage risk through the use of an index options product to the benefit of investors and the public interest.

The Exchange believes the proposed rule change is designed to remove impediments to and to perfect the mechanism for a free and open market and a national market system, and, in general, to protect investors and the public interest in that it would continue to create greater trading and hedging opportunities and flexibility while providing OTP Firms or OTP Holders with an additional tool to manage their risk. The proposed rule change should also continue to result in enhanced efficiency in initiating and closing out positions and heightened contra-party creditworthiness given OCC's role as issuer and guarantor of the proposed index option products.

The Exchanges believes that both the MSCI EAFE Index and the MSCI EM Index are not easily susceptible to manipulation. Both indexes are broad-based indexes and have high market capitalizations. As noted, the MSCI EAFE Index is currently comprised of 694 component stocks and no single component comprises more than 5% of the index, making it not easily subject to market manipulation. Similarly, the MSCI EM Index is currently comprised of 1,196 components stocks and the vast majority of components each comprise less than 5% of the index, making it not easily subject to market manipulation.

Additionally, the iShares MSCI EAFE ETF and the iShares MSCI Emerging Markets ETF, which track the MSCI EAFE and MSCI EM indices, are actively traded products, as are options on those ETFs. Because both indexes have large numbers of component securities, are representative of many countries and trade a large volume with respect to ETFs and options on those ETFs, the Exchange believes that the proposed initial and continued listing requirements based on CBOE's rules are also appropriate to continue to trade options on these indexes on the Exchange. Exchange rules applicable to the trading of other index options currently traded on the Exchange would also apply to the trading of EAFE options and EM options. Additionally, the trading of EAFE options and EM options would be subject to, among others, Exchange rules governing sales practice rules, trading rules and trading halt procedures.

Finally, as noted, the Exchange represents that it has an adequate surveillance program in place to detect potentially manipulative trading in EAFE options and EM options. The Exchange also represents that it has the necessary systems capacity to continue to support the options series. Additionally, as stated in the filing, the Exchange has rules in place to protect public customer trading.

B. Self-Regulatory Organization's Statement on Burden on Competition

The Exchange does not believe that the proposed rule change will impose any burden on competition not necessary or appropriate in furtherance of the purposes of the Act.

Intermarket Competition. The Exchange believes that the proposed rule change would facilitate the transfer to the Exchange and trading of EAFE options and EM options while also competing with domestic products such as EFA options and EEM options, EAFE Futures and EM Futures and European-traded derivatives on the MSCI EAFE Index and the MSCI EM Index, which would enhance competition among market participants, to the benefit of investors and the marketplace. The Exchange thus believes that the proposed change does not impose a burden on intermarket competition that is not necessary or appropriate in furtherance of the purposes of the Act.

Intramarket Competition. The Exchange also believes that the proposed change would not place any undue burden on intramarket competition that is not necessary or appropriate in furtherance of the purposes of the Act as EAFE options and EM options would continue to be equally available to all market participants who wish to trade such options. The Exchange rules applicable to the listing and trading of options will apply in the same manner to the listing and trading of EAFE options and EM options. Also, and as noted above, the Exchange already lists and trades index options.

C. Self-Regulatory Organization's Statement on Comments on the Proposed Rule Change Received From Members, Participants, or Others

No written comments were solicited or received with respect to the proposed rule change.

III. Date of Effectiveness of the Proposed Rule Change and Timing for Commission Action

The Exchange has filed the proposed rule change pursuant to Section 19(b)(3)(A)(iii) of the Act ³⁷ and Rule 19b-4(f)(6) thereunder.³⁸ Because the proposed rule change does not: (i) significantly affect the protection of investors or the public interest; (ii) impose any significant burden on competition; and (iii) become operative prior to 30 days from the date on which it was filed, or such shorter time as the Commission may designate, if consistent with the protection of investors and the public interest, the proposed rule change has become effective pursuant to Section 19(b)(3)(A) of the Act ³⁹ and Rule 19b-4(f)(6)(iii) thereunder.⁴⁰

³⁷ 15 U.S.C. 78s(b)(3)(A)(iii).

³⁸ 17 CFR 240.19b-4(f)(6).

³⁹ 15 U.S.C. 78s(b)(3)(A).

⁴⁰ 17 CFR 240.19b-4(f)(6). In addition, Rule 19b-4(f)(6) requires a self-regulatory organization to give the Commission written notice of its intent to file the proposed rule change, along with a brief description and text of the proposed rule change, at least five business days prior to the date of filing of the proposed rule change, or such shorter time as designated by the Commission. The Exchange has satisfied this requirement.

A proposed rule change filed under Rule 19b-4(f)(6) ⁴¹ normally does not become operative prior to 30 days after the date of the filing. However, pursuant to Rule 19b4(f)(6)(iii),⁴² the Commission may designate a shorter time if such action is consistent with the protection of investors and the public interest. The Exchange has asked the Commission to waive the 30-day operative delay so that the Exchange may list and facilitate continuity in the trading of EAFE options and EM options, which currently trade on CBOE, without delay once they cease to trade on CBOE. The Exchange states that waiver of the operative delay would be consistent with the protection of investors and the public interest because the proposed rule change is based on the approved rules of CBOE and would facilitate the listing and trading of products that have long been traded on CBOE. For these reasons, and because the proposed rule change does not raise any new or novel regulatory issues, the Commission finds that waiving the 30-day operative delay is consistent with the protection of investors and the public interest. Accordingly, the Commission hereby waives the 30-day operative delay and designates the proposed rule change as operative upon filing.⁴³

⁴¹ 17 CFR 240.19b-4(f)(6).

⁴² 17 CFR 240.19b-4(f)(6)(iii).

⁴³ For purposes only of waiving the 30-day operative delay, the Commission has also considered the proposed rule's impact on efficiency, competition, and capital formation. See U.S.C. 78c(f).

At any time within 60 days of the filing of the proposed rule change, the Commission summarily may temporarily suspend such rule change if it appears to the Commission that such action is necessary or appropriate in the public interest, for the protection of investors, or otherwise in furtherance of the purposes of the Act. If the Commission takes such action, the Commission will institute proceedings under Section 19(b)(2)(B) ⁴⁴ of the Act to determine whether the proposed rule change should be approved or disapproved.

⁴⁴ 15 U.S.C. 78s(b)(2)(B).

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-NYSEARCA-2026-13 on the subject line.

Paper Comments

• Send paper comments in triplicate to Secretary, Securities and Exchange Commission, 100 F Street NE, Washington, DC 20549-1090.

All submissions should refer to file number SR-NYSEARCA-2026-13. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-NYSEARCA-2026-13 and should be submitted on or before March 16, 2026.

For the Commission, by the Division of Trading and Markets, pursuant to delegated authority.⁴⁵
⁴⁵ 17 CFR 200.30-3(a)(12), (59).
Sherry R. Haywood,
Assistant Secretary.

[FR Doc. 2026-03451 Filed 2-20-26; 8:45 am]

BILLING CODE 8011-01-P